DEPARTMENT OF TRANSPORTATION

Federal Aviation Administration

Notice of Intent To Release Certain Properties From All Terms, Conditional, Reservations and Restrictions for Homestead General Aviation Airport, Homestead, FL

AGENCY: Federal Aviation Administration (FAA), DOT.

ACTION: Request for public comment.

SUMMARY: The FAA hereby provides notice of intent to release certain airport properties (approximately 152.93 acres) at the Homestead General Aviation Airport, Homestead, FL from all conditions, reservations, and restrictions. The release of property will allow Miami Dade County to dispose of the property for other than aeronautical purposes. Land parcel number 1, containing 85.70 acres on the southeast corner of theoretical SW., 232nd Avenue and SW., 280th Street, unincorporated Miami-Dade County, Florida. Land parcel number 2, containing 67.23 acres on the northeast corner of theoretical SW., 232nd Avenue and theoretical SW., 296th Street, unincorporated Miami-Dade County, Florida. The parcel is currently designated as aeronautical use property. The property will be disposed of for roadway purposes.

The fair market value of the property has been determined by appraisal to be $228,500. In exchange for the property, the airport will receive funds equal to the fair market value as determined by the appraisal.

Documents reflecting the Sponsor's request are available, by appointment only, for inspection at the Airport Manager's office and the FAA Airports District Office.

SUPPLEMENTARY INFORMATION: Section 125 of The Wendell H. Ford Aviation Investment and Reform Act for the 21st Century (AIR-21) requires the FAA to provide an opportunity for public notice and comment prior to the “waiver” or “modification” of a sponsor's Federal obligation to use certain airport land for non-aeronautical purposes.

DATES: May 15, 2003.

ADDRESSES: Documents are available for review at the Airport Manager's office, Miami Dade Aviation Department, Miami International Airport, Miami, FL 33159 and the FAA Airports District Office, 5950 Hazeltine National Drive, Suite 400, Orlando, FL 32822. Written comments on the Sponsor's request must be delivered or mailed to: Miguel A. Martinez, Program Manager, Orlando Airports District Office, 5950 Hazeltine National Drive, Suite 400, Orlando, FL 32822-5024.

FOR FURTHER INFORMATION CONTACT: Miguel A. Martinez, Program Manager, Orlando Airports District Office, 5950 Hazeltine National Drive, Suite 400, Orlando, FL 32822-5024.

Bart Vernace,
Assistant Manager, Orlando Airports District Office Southern Region.

[FR Doc. 03-9182 Filed 4-14-03; 8:45 am]

BILLING CODE 4910-13-M